DEPARTMENT OF THE INTERIOR

National Park Service

[NPS-WASO-NAGPRA-12785; PPWOCRADN0-PCU00RP14.R50000]

Notice of Inventory Completion for Native American Human Remains and Associated Funerary Objects From Lake Texoma, OK, in the Possession of the United States Army Corps of Engineers, Tulsa District, Tulsa, OK; Correction

AGENCY: National Park Service, Interior.

ACTION: Notice; correction.

SUMMARY: The U.S. Army Corps of Engineers, Tulsa District, has corrected an inventory of human remains and associated funerary objects, published in a Notice of Inventory Completion in the Federal Register on September 24, 1997. This notice corrects the number of associated funerary objects from site 34JN30, Lake Texoma, Johnston County, OK. Lineal descendants or representatives of any Indian tribe or Native Hawaiian organization not identified in this notice that wish to request transfer of control of these human remains and associated funerary objects should submit a written request to the U.S. Army Corps of Engineers, Tulsa District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the U.S. Army Corps of Engineers, Tulsa District, at the address in this notice by June 12, 2013.

ADDRESSES: Ms. Michelle Horn, U.S. Army Corps of Engineers, 1645 S. 101st E. Ave., Tulsa, OK 74128, telephone (918) 669-7642.

SUPPLEMENTARY INFORMATION: Notice is here given in accordance with the Native American Graves Protection and Repatriation Act (NAGPRA), 25 U.S.C. 3003, of the correction of an inventory of human remains and associated funerary objects under the control of the U.S. Army Corps of Engineers, Tulsa District, OK. The human remains and associated funerary objects were removed from Lake Texoma, Johnston County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects from site 34JN30, published in a Notice of Inventory Completion in the Federal Register (62 FR 49993, September 24, 1997). Transfer of control of the items in this correction notice has not occurred.

Correction

In the Federal Register (62 FR 49993, September 24, 1997), paragraph three is corrected by substituting the following paragraph:

In 1971, human remains representing a minimum of two individuals were removed from site 34JN30, Lake Texoma, in Johnston County, OK. The human remains were excavated by the Oklahoma Archaeological Society and were originally curated at the Oklahoma Museum of Natural History (OMNH). After transfer to the U. S. Army Corps of Engineers, Tulsa District, in 1995, the human remains were inventoried for NAGPRA. At that time, no associated objects were located. In 2003, the collection was re-inventoried at LopezGarcia Group, Dallas, TX, and then transferred to OMNH, under the control of the U.S. Army Corps of Engineers, Tulsa District. In addition to human remains, associated funerary objects were located during the 2003 inventory. No known individuals were identified. The 228 associated funerary objects are 7 metal tools, 5 metal buttons, 15 metal fragments, 14 red glass beads, 16 glass bottle fragments, 29 historic ceramic sherds, 1 prehistoric ceramic sherd, 128 unmodified faunal bone fragments, 1 modified deer rib, 3 bone buttons, 4 chipped stone flakes, 2 wooden buttons, 1 historic clay pipe bowl fragment, 1 bark sample, and 1 unmodified mussel shell fragment.

In the Federal Register (62 FR 49992, September 24, 1997) paragraph seven, sentence two is corrected by substituting the following paragraph:

Officials of the U.S. Army Corps of Engineers, Tulsa District, have also determined that, pursuant to 25 U.S.C. 3001 (3)(A), the 239 objects listed above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Ms. Michelle Horn, U.S. Army Corps of Engineers, 1645 S. 101st E. Ave, Tulsa, OK 74128, telephone (918) 669-7642, by June 12, 2013. After that date, if no additional requestors have come forward, transfer of control of the human remains and associated funerary objects to the Chickasaw Nation may proceed.

The U.S. Army Corps of Engineers, Tulsa District is responsible for notifying the Chickasaw Nation that this notice has been published.

Dated: April 8, 2013.
Sherry Hutt,
Manager, National NAGPRA Program.

[FR Doc. 2013-11230 Filed 5-10-13; 8:45 am]

BILLING CODE 4312-50-P